DEPARTMENT OF COMMERCE

National Oceanic and Atmospheric Administration

50 CFR Part 660

[I.D. 040302B]

Pacific Fishery Management Council; Notice of Intent

AGENCY: National Marine Fisheries Service (NMFS), National Oceanic and Atmospheric Administration (NOAA), Commerce.

ACTION: Notice of intent to prepare an environmental impact statement (EIS); request for written comments.

SUMMARY: NMFS and the Pacific Fishery Management Council (Council) announce their intent to prepare an EIS in accordance with the National Environmental Policy Act of 1969 (NEPA) for Amendment 16 to the Pacific Coast Groundfish Fishery Management Plan (FMP). This amendment will incorporate rebuilding plans for groundfish species that have been declared overfished by the Secretary of Commerce (Secretary) pursuant to the Magnuson-Stevens Fishery Conservation and Management Act (Magnuson-Stevens Act). The amendment will also establish procedures for periodic review and revision of rebuilding plans. The Council has already held public scoping meetings and will continue to accept written comments to determine the issues of concern and the appropriate range of management alternatives to be addressed in the EIS.

DATES: Written comments will be accepted on or before May 31, 2002.

ADDRESSES: Send comments on issues and alternatives for the EIS to John DeVore, Pacific Fishery Management Council, 7700 NE Ambassador Pl., Suite 200, Portland, OR 97220 or Becky Renko, NMFS, Northwest Region, 7600 Sand Point Way NE, BIN C15700, Bldg. 1, Seattle, WA 98115-0070. Comments also may be sent via facsimile (fax) to the Council at 503-326-6831. Comments will not be accepted if submitted via e-mail or Internet.

FOR FURTHER INFORMATION CONTACT: John Devore, phone: 503-326-6352; fax: 503-326-6831 and e-mail: John.Devore@noaa.gov.

SUPPLEMENTARY INFORMATION: Under the Magnuson-Stevens Act, the United States has management authority over all living marine resources within the exclusive economic zone (EEZ), which extends from three to 200 nautical miles offshore. The Council develops FMPs and FMP amendments governing fisheries off the coasts of California, Oregon and Washington for approval and implementation by the Secretary of Commerce.

The Council implemented the original Groundfish FMP in 1982. Groundfish stocks are harvested in numerous commercial, recreational, and tribal fisheries in state and Federal waters off the West Coast. Groundfish are also harvested incidentally in non-groundfish fisheries, most notably fisheries for pink shrimp, spot and ridgeback prawns, California halibut, and sea cucumbers.

The FMP manages 82 species, of which eight have been declared overfished by the Secretary pursuant to the Magnuson-Stevens Act and overfishing criteria adopted by the Council under Amendment 11 to the FMP. Under Section 304(e)(3) of the Magnuson-Stevens Act (16 U.S.C. 1854(e)(3)), the Council is required, within one year, to prepare an FMP, FMP amendment, or proposed regulations to rebuild any species that has been declared overfished. In 2000, after three species had been declared overfished, NMFS approved Amendment 12 to the Groundfish FMP. Amendment 12 provided that rebuilding plans would be developed according to so-called “framework procedures” under the Groundfish FMP, but would not be incorporated directly into the FMP itself. Amendment 12 was subsequently deemed inconsistent with the Magnuson-Stevens Act in the case of Natural Resources Defense Council v. Evans, 168 F. Supp.2d 1149 (N.D. Calif. 2001), in that the rebuilding plans were not made part of the FMP. The court also found that the environmental assessment prepared for Amendment 12 was deficient under NEPA for failure to adequately discuss appropriate alternatives.

Amendment 16 to the FMP, which is now in development, is intended to comply with the Court's directive to include rebuilding plans in the FMP, and also to provide for rebuilding of additional species that have been declared overfished. Specifically, rebuilding plans for five of the eight overfished stocks (lingcod, cowcod, Pacific ocean perch (POP), widow rockfish, and darkblotched rockfish) will be incorporated into the FMP through Amendment 16. Three additional rebuilding plans (for bocaccio, canary rockfish and yelloweye rockfish) are pending the completion of new stock assessments and rebuilding analyses, and will be adopted in subsequent plan amendments.

Initially, NMFS intended to prepare an environmental assessment (EA) for Amendment 16. An EA is used to determine whether the proposed action (in this case adopting rebuilding plans and procedures) will have a significant impact on the human environment, as defined by NEPA and its implementing regulations. If a significant impact is anticipated to occur, an EIS must be prepared. During public scoping for the EA, it became apparent that the proposed action may cause significant impacts, so NMFS decided to proceed with an EIS rather than an EA.

Alternatives

As currently planned, the Amendment 16 EIS will evaluate the effects of two sets of alternatives that might be adopted under Amendment 16. The first set of alternatives will address the effects of different procedures that might be followed for revising rebuilding plans. This could include a variety of strategies based on the results of the biennial reviews of rebuilding plans required by section 304(e)(7) of the Magnuson-Stevens Act at 16 U.S.C. 1854(e)(7). The second set of alternatives will analyze effects of different rebuilding parameters. These parameters include the target rebuilding period, the fishing mortality management strategy (e.g., constant catch versus constant fishing mortality rate) and rates associated with the strategy, and levels of probability or risk that rebuilding targets will be achieved.

Scoping

Public involvement in the scoping of issues and alternatives is an important part of the EIS process. Meetings of the Council have been and will continue to be the principal opportunities for public participation in scoping Amendment 16 alternatives and issues. Scoping began in March 1999 when lingcod and POP were the first groundfish species to be declared overfished. Since that time there has been substantial opportunity for public input at 11 Council meetings. Since the proposed action has already been subject to a lengthy development process that has included early and meaningful opportunity for public participation, no additional public hearings are planned. However, written comments on the scope of issues and alternatives may be submitted as described under ADDRESSES.

Authority: 16 U.S.C. 1801 et seq.

Dated: April 9, 2002.
Jack H. Dunnigan,
Director, Office of Sustainable Fisheries, National Marine Fisheries Service.

[FR Doc. 02-9203 Filed 4-15-02; 8:45 am]

BILLING CODE 3510-22-S